DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Survey of Evidence-Based Practices for Mental Health and Substance Use Disorders in State Medicaid Plans: Coverage Structures, Access and Challenges—NEW

The Substance Abuse and Mental Health Services Administration (SAMHSA) is conducting a survey to gather information about current and planned State Medicaid activities and policies related to eight mental health/substance abuse evidence-based practices (EBPs). This survey is part of a five-year project to increase attention to and understanding of Medicaid mental health and substance abuse service issues among State Medicaid and Mental Health/Substance Abuse Directors, as well as improve the effectiveness of State Medicaid mental health services.

The purpose of the survey is to determine the overall management and delivery of mental health and substance abuse services within Medicaid and the use of eight specific evidence-based practices. The information provided through the survey will be vital to increasing awareness and understanding of Medicaid mental health/substance abuse evidence-based practice activities. This information will also be used to develop numerous products to help State Medicaid and Mental Health/Substance Abuse Directors adopt, deliver, and refine existing policies about mental health and substance abuse EBPs.

A survey will be sent to the director of each State Medicaid office in the 50 States and the District of Columbia, with responses expected over a four-week period. The survey contains a total of 114 questions on the overall management and delivery of mental health and substance abuse services within Medicaid and on the implementation of eight EBPs within the state Medicaid program. However, respondents will complete part or all of the survey, depending on how many of the eight EBPs are being implemented in their state. The survey will be sent electronically to State Medicaid Directors, and they may respond by email or facsimile. To reduce burden, prior to administering the survey several survey questions will be pre-completed based on existing information, as available.

Below is the table of the estimated total burden hours:

Respondent | Number of respondents | Number of responses per respondent | Average burden hour | Total burden hours
State Medicaid Directors | 51 | 1 | 1 | 51

Written comments and recommendations concerning the proposed information collection should be sent by May 6, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: March 30, 2011.
Elaine Parry,
Director, Office of Management, Technology and Operations.

[FR Doc. 2011-8134 Filed 4-5-11; 8:45 am]

BILLING CODE 4162-20-P